DEPARTMENT OF LABOR

Employment and Training Administration

[TA-W-72,912]

Rexam Closure Systems, Inc. a Subsidiary of Rexam PLC Including On-Site Leased Workers From Addeco Employment Services Including Workers Whose Unemployment Insurance (UI) Wages Are Paid Through Owens Illinois Manufacturing Hamlet, NC; Amended Certification Regarding Eligibility To Apply for Worker Adjustment Assistance

In accordance with Section 223 of the Trade Act of 1974, as amended (“Act”), 19 U.S.C. 2273, the Department of Labor issued a Certification of Eligibility to apply for Worker Adjustment Assistance on March 15, 2010, applicable to the workers of Rexam Closure Systems, Inc., a subsidiary of Rexam PLC, Hamlet, North Carolina. The notice was published in the Federal Register on April 23, 2010 (75 FR 21357).

At the request of the State Agency, the Department reviewed the certification for workers of the subject firm. The workers were engaged in activities related to the production of plastic closures.

New findings show that Rexam Closure Systems, Inc., a subsidiary of Rexam PLC purchased Owens Illinois Manufacturing. Some workers separated from employment at the subject firm had their wages reported under a separated unemployment insurance (UI) tax account under the name Owens Illinois Manufacturing.

Accordingly, the Department is amending this certification to properly reflect this matter.

The intent of the Department's certification is to include all workers of Rexam Closure Systems, Inc. who were adversely affected as a secondary component supplier for a TAA certified firm.

The amended notice applicable to TA-W-72,912 is hereby issued as follows:

All workers of Rexam Closure Systems, Inc., a subsidiary of Rexam PLC, including on-site leased workers from Addeco Employment Services, and including workers whose UI wages are paid through Owens Illinois Manufacturing, Hamlet, North Carolina, who became totally or partially separated from employment on or after November 10, 2008, through March 15, 2012, and all workers in the group threatened with total or partial separation from employment on the date of certification through two years from the date of certification, are eligible to apply for adjustment assistance under Chapter 2 of Title II of the Trade Act of 1974, as amended.

Signed in Washington, DC, this 11th day of May 2010.
Michael W. Jaffe,
Certifying Officer, Division of Trade Adjustment Assistance.

[FR Doc. 2010-12249 Filed 5-20-10; 8:45 am]

BILLING CODE 4510-FN-P